DEPARTMENT OF AGRICULTURE

Animal and Plant Health Inspection Service

[Docket No. APHIS-2020-0063]

Notice of Decision To Revise Import Requirements for the Importation of Fresh Sand Pears From the Republic of Korea Into the United States

AGENCY: Animal and Plant Health Inspection Service, USDA.

ACTION: Notice.

SUMMARY: We are notifying the public of our decision to revise requirements for the importation into the United States of sand pear (Pyrus pyrifolia var. culta) fruit from the Republic of Korea. Based on the findings of a pest risk analysis, which we made available to the public for review and comment through a previous notice, we have determined that the application of one or more designated phytosanitary measures will be sufficient to mitigate the risks of introducing or disseminating plant pests or noxious weeds via the importation of fresh, non-precleared sand pear fruit from the Republic of Korea into all ports of the United States as an alternative to the preclearance program. All non-precleared sand pear fruit intended for importation into the United States from the Republic of Korea will be subject to the systems approach required for precleared fruit.

DATES: Imports may be authorized at all U.S. ports beginning September 27, 2022.

FOR FURTHER INFORMATION CONTACT: Ms. Claudia Ferguson, Senior Regulatory Policy Specialist, Regulatory Coordination and Compliance, Imports, Regulations, and Manuals, PPQ, APHIS, 4700 River Road, Unit 133, Riverdale, MD 20737-1231; (301) 851-2352.

SUPPLEMENTARY INFORMATION:

Background

Under the regulations in “Subpart L-Fruits and Vegetables” (7 CFR 319.56-1 through 319.56-12, referred to below as the regulations), the Animal and Plant Health Inspection Service (APHIS) of the U.S. Department of Agriculture (USDA) prohibits or restricts the importation of fruits and vegetables into the United States from certain parts of the world to prevent plant pests from being introduced into and spread within the United States.

Section 319.56-4 of the regulations provides requirements for authorizing the importation of fruits and vegetables into the United States and revising existing requirements for the importation of fruits and vegetables. Paragraph (c) of that section provides that the name and origin of all fruits and vegetables authorized for importation into the United States, as well as the requirements for their importation, be listed on the internet in APHIS' Fruits and Vegetables Import Requirements database, or FAVIR ¹ (https://epermits.aphis.usda.gov/manual). It also provides that, if the Administrator of APHIS determines that any of the phytosanitary measures required for the importation of a particular fruit or vegetable are no longer necessary to reasonably mitigate the plant pest risk posed by the fruit or vegetable, APHIS will publish a notice in the Federal Register making its pest risk documentation and determination available for public comment.

¹ On September 30, 2022, the FAVIR database will be replaced by the APHIS Agricultural Commodity Import Requirements (ACIR) database. The database can be accessed at https://acir.aphis.usda.gov/s/.

In accordance with that process, we published a notice ² in the Federal Register on March 15, 2021 (86 FR 14301-14302, Docket No. APHIS-2020-0063), in which we announced the availability, for review and comment, of a pest list and a commodity import evaluation document that evaluated the risks associated with allowing importation into all ports of the United States of non-precleared fresh sand pear fruit from the Republic of Korea.

² To view the notice, supporting documents, and the comment we received, go to www.regulations.gov and enter APHIS-2020-0063 in the Search field.

We solicited comments on the notice for 60 days ending May 14, 2021. We received one comment by that date, from a trade organization opposed to our proposal. The commenter stated that APHIS should not revise requirements for imports into all ports of the United States of fresh sand pear from the Republic of Korea because that country has not followed through on a pledge to open its markets to imports of U.S. pome fruit.

We are making no changes in response to the commenter. Import prohibitions based on trade reciprocity are beyond the scope of APHIS' statutory authority under the Plant Protection Act (PPA, 7 U.S.C. 7701 et seq.). Under the PPA, APHIS will prohibit the importation of a fruit or vegetable into the United States only if we determine that the prohibition is necessary to prevent the introduction or dissemination of a plant pest or noxious weed within the United States. APHIS and trade offices within USDA continue to pursue new or expanded export markets for U.S. agriculture, including the export of pome fruit to the Republic of Korea.

Therefore, in accordance with the regulations in § 319.56-4(c)(3)(iii), we are announcing our decision to authorize the importation of fresh, non-precleared sand pear from the Republic of Korea into all ports of the United States subject to the following phytosanitary measures: ³

³ Preclearance program exports of sand pear fruit from the Republic of Korea will still require a completed PPQ Form 203, which indicates the commodity has been inspected by APHIS at origin.

• Sand pears must be imported as commercial consignments only.

• Sand pears must be grown in places of production and packed in packinghouses registered with the Republic of Korea national plant protection organization (NPPO).

• Places of production must be inspected for symptoms of quarantine pests and diseases. If such pests and diseases are found, adequate mitigations measures should be implemented.

• Sand pears must be bagged when the fruit is between 2.5 and 3.5 centimeters in diameter. All fruit must be bagged by June 30. Bagging is required to prevent all arthropod pests from infesting the fruits.

• Each sand pear consignment must be labeled to allow trace back.

• Each sand pear consignment must be accompanied by a phytosanitary certificate issued by the Republic of Korea NPPO stating that the consignment has been inspected and found free of quarantine pests.

These conditions will be listed in the Fruits and Vegetables Import Requirements database (available at https://epermits.aphis.usda.gov/manual). In addition to these specific measures, fresh sand pear from the Republic of Korea will be subject to the general requirements listed in § 319.56-3 that are applicable to the importation of all fruits and vegetables.

Paperwork Reduction Act

In accordance with the Paperwork Reduction Act of 1995 (44 U.S.C. 3501 et seq.), the recordkeeping and burden requirements associated with this action are included under the Office of Management and Budget control number 0579-0049.

E-Government Act Compliance

The Animal and Plant Health Inspection Service is committed to compliance with the E-Government Act to promote the use of the internet and other information technologies, to provide increased opportunities for citizen access to Government information and services, and for other purposes. For information pertinent to E-Government Act compliance related to this notice, please contact Mr. Joseph Moxey, APHIS' Paperwork Reduction Act Coordinator, at (301) 851-2483.

Congressional Review Act

Pursuant to the Congressional Review Act (5 U.S.C. 801 et seq.), the Office of Information and Regulatory Affairs designated this action as not a major rule, as defined by 5 U.S.C. 804(2).

Authority: 7 U.S.C. 1633, 7701-7772, and 7781-7786; 21 U.S.C. 136 and 136a; 7 CFR 2.22, 2.80, and 371.3.

Done in Washington, DC, this 21st day of September 2022.
Anthony Shea,
Administrator, Animal and Plant Health Inspection Service.

[FR Doc. 2022-20810 Filed 9-26-22; 8:45 am]

BILLING CODE 3410-34-P